DEPARTMENT OF LABOR

Employment and Training Administration

[TA-W-60,739]

Mega Brands, Rose Art Industries, LLC, Wood-Ridge, NJ; Notice of Termination of Investigation

Pursuant to Section 221 of the Trade Act of 1974, as amended, an investigation was initiated on January 11, 2006, in response to a petition filed on behalf of workers of Mega Brands, Rose Art Industries, Wood-Ridge, New Jersey.

This worker group is covered by an existing certification. Workers of Rose Art Industries, LLC, which is a subsidiary of Mega Brands, Wood-Ridge, New Jersey, were certified eligible to apply for adjustment assistance on January 29, 2007, under petition number TA-W-60,319. Consequently, further investigation would serve no purpose and the investigation is terminated.

Signed at Washington, DC, this 30th day of January 2007.
Linda G. Poole,
Certifying Officer, Division of Trade Adjustment Assistance

[FR Doc. E7-1959 Filed 2-6-07; 8:45 am]

BILLING CODE 4510-FN-P